DEPARTMENT OF THE INTERIOR

Bureau of Land Management

[14XL 5413AR LLUTY02000 L12320000.EB0000 LVRDUT040000 24 1A]

Notice of Intent To Collect Fees on Public Land in San Juan County, UT

AGENCY: Bureau of Land Management, Interior.

ACTION: Notice.

SUMMARY: Pursuant to applicable provisions of the Federal Lands Recreation Enhancement Act (REA), the Monticello Field Office of the Bureau of Land Management (BLM) is proposing to begin collecting fees for overnight camping within four developed camping areas.

DATES: Effective six months after the publication of this notice, the BLM-Utah, Monticello Field Office would initiate fee collection at the Creek Pasture Campground, Creek Pasture Group Site, Superbowl Campground, and Indian Creek Falls Group Site for single occupancy campsites and group sites, unless the BLM publishes a Federal Register notice to the contrary.

FOR FURTHER INFORMATION CONTACT: Don Hoffheins, Field Office Manager, BLM-Monticello Field Office, 365 N. Main, Monticello, UT 84535, (435) 587-1500. Persons who use a telecommunications device for the deaf (TDD) may call the Federal Information Relay Service (FIRS) at 1-800-877-8339 to leave a message or question for the above individual. The FIRS is available 24 hours a day, 7 days a week. Replies are provided during normal business hours.

SUPPLEMENTARY INFORMATION: The Utah Resource Advisory Council (RAC), functioning as a Recreation Resource Advisory Committee (RRAC), will review the proposal to charge fees at the four developed camping areas. Future adjustments in the fee amount will be made in accordance with the Monticello Field Office's publicly-reviewed recreation fee business plan covering the developed camping areas. Fee adjustments will be made after consultation with the Utah RRAC and general public support for the proposed fees are documented in conformance with section 6803(c) of the REA.

The four developed camping areas discussed in this notice are:

Salt Lake Meridian

Creek Pasture Campground

Salt Lake Meridian, Utah

T. 30 S., R. 21 E.,

Secs. 20 and 21.

Creek Pasture Group Site

Salt Lake Meridian, Utah

T. 30 S., R. 21 E.,

Sec. 17.

Superbowl Campground

Salt Lake Meridian, Utah

T. 30 S., R. 21 E.,

Sec. 28.

Indian Creek Falls Group Site

Salt Lake Meridian, Utah

T. 30 S., R. 20 E.,

Sec. 1.

Under Section 6802(g)(2) of the REA, the camping areas listed above qualify as sites wherein visitors can be charged an “Expanded Amenity Recreation Fee.” Visitors wishing to use the expanded amenities the BLM has developed at the Creek Pasture Campground, Creek Pasture Group Site, Superbowl Campground, and Indian Creek Falls Group Site would purchase a Recreation Use Permit as described at 43 CFR part 2933. Pursuant to REA and implementing regulations at 43 CFR part 2933, fees may be charged for overnight camping and group use reservations where specific amenities and services are provided. Specific visitor fees will be identified and posted at the developed recreation sites. Fees for individual sites at Creek Pasture and Superbowl campgrounds must be paid at the self-service pay station located at the camping areas. Fees for the Creek Pasture and Indian Creek Falls group sites must be paid for in advance with the Monticello Field Office. People holding the “America the Beautiful—The National Parks and Federal Recreational Lands Senior Pass” or “Access Pass” would be entitled to a 50 percent discount on expanded amenity fees, except those associated with group reservations. Fees charged for use of the group sites would include a non-refundable site reservation fee.

The Creek Pasture Campground is located in the heavily-used Utah Highway 211 corridor along Indian Creek and has proven to be very popular. Its sites are in use throughout the majority of the tourist season. BLM has added amenities for resource protection and visitor enjoyment. Creek Pasture is within the Indian Creek Special Recreation Management Area (SRMA). The Creek Pasture Campground offers 3 toilets, 32 individual sites, an access road, regular patrols, fire rings, tent spaces, and picnic tables.

The Creek Pasture Group Site is located at the north end of the Creek Pasture Campground, within the Indian Creek SRMA. The Creek Pasture Group Site offers a toilet, an access road, regular patrols, fire rings, tent spaces, a shade shelter, and picnic tables.

The Superbowl Campground is located a quarter mile from Highway 211 within the Indian Creek SRMA and offers two toilets, seventeen individual sites, an improved access road, regular patrols, fire rings, tent spaces, and picnic tables.

The Indian Creek Falls Group Site is located approximately two miles from Highway 211 within the Indian Creek SRMA and offers a toilet, an access road, regular patrols, fire rings, tent spaces, and picnic tables.

The BLM is committed to providing and receiving fair market value for the use of developed recreation facilities and services in a manner that meets public use demands, provides quality experiences, and protects important resources. The BLM's policy is to collect fees at all specialized recreation sites, or where the BLM provides facilities, equipment or services at Federal expense, in connection with outdoor use as authorized by the REA. In an effort to meet increasing demands for services and increased maintenance of developed facilities, the BLM would implement a fee program for the developed camping areas. The BLM's mission for the developed camping areas is to ensure that funding is available to maintain facilities and recreational opportunities, to provide for law enforcement presence, and to protect public health and safety and public land resources. This mission entails communication with those who will be most directly affected by the developed camping areas such as recreationists, other recreation providers, partners, neighbors, elected officials, and other agencies.

Camping and group use fees would be consistent with other established fee sites in the area including other BLM-administered sites and those managed by the United States Forest Service, National Park Service, and Utah State Parks and Recreation. Future adjustments in the fee amount will be made following the Monticello Field Office's recreation fee business plan covering the sites, in consultation with the Utah RRAC and other public stakeholders prior to a fee adjustment.

In December 2004, the REA was signed into law. The REA provides authority for the Secretaries of the Interior and Agriculture to establish, modify, charge, and collect recreation fees for use of some Federal recreational lands and waters, and contains specific provisions addressing public involvement in the establishment of recreation fees, including a requirement that RRACs or Councils have the opportunity to make recommendations regarding establishment of such fees. The REA also directed the Secretaries of the Interior and Agriculture to publish advance notice in the Federal Register whenever new recreation fee areas are established under their respective jurisdictions. In accordance with the BLM recreation fee program policy, the Monticello Field Office's draft Business Plan for BLM Monticello Field Office Campgrounds explains the proposal to collect fees at the four developed camping areas, the fee collection process, and how the fees will be used at the four developed camping areas. The BLM will provide the public with an opportunity to review and comment on the draft Business Plan for a minimum of 30 days prior to presenting the fee proposal for Utah RRAC review. The BLM will notify and involve the public at each stage of the planning process, including the proposal to collect fees. The Utah RRAC will review the fee proposals at its next meeting, following REA guidelines. Fee amounts will be posted on-site, on the BLM-Monticello Field Office Web site, and at the Monticello Field Office. Copies of the business plan will be available at the Monticello Field Office and the BLM-Utah State Office.

Authority: 16 U.S.C. 6803(b).

Jenna Whitlock,
Acting State Director.

[FR Doc. 2015-30515 Filed 11-30-15; 8:45 am]

BILLING CODE 4310-DQ-P